SMALL BUSINESS ADMINISTRATION

[License No. 03/03-0276]

LNC Partners II—SBIC, L.P.; Notice Seeking Exemption Under Section 312 of the Small Business Investment Act, Conflicts of Interest

Notice is hereby given that LNC Partners II—SBIC, L.P., 11720 Plaza America Drive, Suite 650, Reston, VA 20190, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). LNC Partners II—SBIC, L.P. is providing a financing to OutSolve, LLC, 3330 West Esplanade Ave., Metairie, LA 70002.

The financing is brought within the purview of § 107.730(a)(4) of the Regulations because LNC Partners II—SBIC, L.P. is providing a financing to OutSolve, LLC, Inc. that will be used, in part, to discharge an obligation to an Associate. Therefore, this transaction is considered financing a Small Business to discharge an obligation to its Associate, requiring a prior SBA exemption and pre-financing SBA approval.

Notice is hereby given that any interested person may submit written comments on the transaction, within fifteen days of the date of this publication, to the Associate Administrator, Office of Investment and Innovation, U.S. Small Business Administration, 409 Third Street SW, Washington, DC 20416.

Bailey DeVries,
Associate Administrator, Office of Investment and Innovation, U.S. Small Business Administration.

[FR Doc. 2022-23605 Filed 10-28-22; 8:45 am]

BILLING CODE P